COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List a product and services to be furnished by nonprofit agencies employing persons who are blind or have other severe disabilities, and to delete products and services previously furnished by such agencies.

Comments Must Be Received On Or Before: May 1, 2005.

ADDRESSES: Committee for Purchase From People Who Are Blind or Severely Disabled, Jefferson Plaza 2, Suite 10800, 1421 Jefferson Davis Highway, Arlington, Virginia, 22202-3259.

FOR FUTHER INFORMATION OR TO SUBMIT COMMENTS CONTACT: Sheryl D. Kennerly, Telephone: (703) 603-7740, Fax: (703) 603-0655, or email SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List. Comments on this certification are invited. Commenters should identify the statement(s) underlying the certification on which they are providing additional information.

End of Certification

The following product and services are proposed for addition to Procurement List for production by the nonprofit agencies listed:

Product

Product/NSN: Bottle, Oil Sample, 8125-01-193-3440,

NPA: East Texas Lighthouse for the Blind, Tyler, Texas.

Contracting Activity: Defense Supply Center Philadelphia, Philadelphia, Pennsylvania.

Services

Service Type/Location: Custodial Services, Shasta Lake Ranger Station, 14225 Holiday Road, Redding, California,

NPA: Shasta County Opportunity Center, Redding, California.

Contracting Activity: USDA, Forest Service, Redding, Redding, California.

Service Type/Location: Custodial Services, U.S. Geological Survey—Office of Acquisition & Grants, 12201 Sunrise Valley Drive, Reston, Virginia.

NPA: Davis Memorial Goodwill Industries, Washington, DC.

Contracting Activity: DOI-USGS, Office of Acquisition and Grants, Reston, Virginia.

Service Type/Location: Grounds Maintenance, Bureau of Engraving and Printing, Washington, DC.

NPA: Davis Memorial Goodwill Industries, Washington, DC.

Contracting Activity: Bureau of Engraving and Printing, Washington, DC.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Product/NSN: Labels, Laser, Assorted Fluorescent, 7530-01-514-5944.

NPA: North Central Sight Services, Inc., Williamsport, Pennsylvania.

Contracting Activity: Office Supplies & Paper Product Acquisition Center, New York, NY.

Product/NSN: Pen, Executive, In-Puria Tri-Wood, Rollerball, 7520-01-484-4576.

NPA: Tarrant County Association for the Blind, Fort Worth, Texas.

Contracting Activity: Office Supplies & Paper Product Acquisition Center, New York, NY.

Services

Service Type/Location: Commissary Shelf Stocking, Cecil Field Naval Air Station, Jacksonville, Florida.

NPA: CCAR Services, Inc., Green Cove Springs, Florida.

Contracting Activity: Defense Commissary Agency, Fort Lee, Virginia.

Service Type/Location: Commissary Shelf Stocking & Custodial, Defense Supply Center Richmond, 8000 Jefferson Davis Highway, Richmond, Virginia.

NPA: Goodwill Services, Inc., Richmond, Virginia.

Contracting Activity: Defense Commissary Agency, Fort Lee, Virginia.

Service Type/Location: Commissary Shelf Stocking & Custodial, Fort McClellan, Alabama.

NPA: Alabama Goodwill Industries, Inc., Birmingham, Alabama.

Contracting Activity: Defense Commissary Agency, Fort Lee, Virginia.

Service Type/Location: Commissary Shelf Stocking & Custodial, Naval Training Center Complex, 2500 Leahy Avenue, Orlando, Florida.

NPA: None currently authorized.

Contracting Activity: Defense Commissary Agency, Fort Lee, Virginia.

Service Type/Location: Commissary Shelf Stocking & Custodial, Roosevelt Roads Naval Station, Cieba, Puerto Rico.

NPA: Brevard Achievement Center, Inc., Rockledge, Florida.

Contracting Activity: Defense Commissary Agency, Fort Lee, Virginia.

Service Type/Location: Janitorial/Custodial, Cecil Field Naval Air Station Commissary, Jacksonville, Florida.

NPA: CCAR Services, Inc., Green Cove Springs, Florida.

Contracting Activity: Defense Commissary Agency, Fort Lee, Virginia.

Sheryl D. Kennerly,
Director, Information Management.

[FR Doc. 05-6469 Filed 3-31-05; 8:45 am]

BILLING CODE 6353-01-P